DEPARTMENT OF THE INTERIOR

Bureau of Land Management

[LLWO35000.L14400000.PN0000.18X; OMB Control Number 1004-0153]

Agency Information Collection Activities; Conveyance of Federally Owned Mineral Interests

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before March 19, 2018.

ADDRESSES: Send your comments on this information collection request (ICR) by mail to the U.S. Department of the Interior, Bureau of Land Management, 1849 C Street NW, Room 2134LM, Washington DC 20240, Attention: Jean Sonneman; by email to jesonnem@blm.gov. Please reference OMB Control Number 1004-0153 in the subject line of your comments.

FOR FURTHER INFORMATION CONTACT: To request additional information about this ICR, contact Robert Jolley by email at rbjolley@blm.gov, or by telephone at (202) 912-7350.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Section 209(b) of the Federal Land Policy and Management Act (43 U.S.C. 1719) authorizes the Secretary of the Interior to convey Federally-owned mineral interests to non-Federal owners of the surface estate. The respondents in this information collection are non-Federal owners of surface estates who apply for underlying Federally-owned mineral interests. This information collection enables the BLM to determine if the applicants are eligible to receive title to the Federally-owned mineral interests beneath their lands. Regulations at 43 CFR part 2720 establish guidelines and procedures for the processing of these applications.

Title of Collection: Conveyance of Federally-Owned Mineral Interests.

OMB Control Number: 1004-0153.

Form Numbers: None.

Type of Review: Extension of a currently approved collection.

Respondents/Affected Public: Owners of surface estates (i.e., individuals, businesses, or state, local, or tribal governments) that want to obtain underlying Federally-owned mineral estates.

Total Estimated Number of Annual Respondents: 11 businesses, 10 individuals, and 3 State/Local/Tribal Governments.

Total Estimated Number of Annual Responses: 24.

Estimated Completion Time per Response: 10 hours per response.

Total Estimated Number of Annual Burden Hours: 240 hours.

Respondent's Obligation: Required to obtain or retain a benefit.

Frequency of Collection: On occasion.

Total Estimated Annual Nonhour Burden Cost: $1,200 dollars.

Type of response | Number of responses | Hours per response | Total hours (Column B × Column C)
A. | B. | C. | D.
Conveyance of Federally-Owned Mineral Interests—Businesses | 11 | 10 | 110
Conveyance of Federally-Owned Mineral Interests—Individuals | 10 | 10 | 100
Conveyance of Federally-Owned Mineral Interests—State/Local/Tribal Governments | 3 | 10 | 30
Totals | 24 |  | 240

An agency may not conduct or sponsor and a person is not required to respond to a collection of information unless it displays a currently valid OMB control number.

The authority for this action is the Paperwork Reduction Act of 1995 (44 U.S.C. 3501 et seq).

Jean Sonneman,
Information Collection Clearance Officer, Bureau of Land Management.

[FR Doc. 2018-00606 Filed 1-12-18; 8:45 am]

BILLING CODE 4310-84-P